DEPARTMENT OF THE INTERIOR

National Park Service

[NPS-IMR-YELL-12081; PPWONRADE2, PMP00EI05.YP0000]

Winter Use Plan, Supplemental Environmental Impact Statement, Yellowstone National Park

AGENCY: National Park Service, Interior.

ACTION: Notice of Availability.

SUMMARY: Pursuant to the National Environmental Policy Act of 1969, 42 U.S.C. 4332(2)(C), the National Park Service (NPS) announces the availability of a Final Supplemental Environmental Impact Statement (SEIS) for a Winter Use Plan for Yellowstone National Park, located in Idaho, Montana and Wyoming.

DATES: The National Park Service will execute a Record of Decision no sooner than 30 days following publication by the Environmental Protection Agency of the Notice of Availability of the Final Supplemental Environmental Impact Statement.

ADDRESSES: Information will be available for public review and comment online at http://parkplanning.nps.gov/YELL (click on the link to the 2012 Supplemental Winter Use Plan EIS), and at Yellowstone National Park headquarters, Mammoth Hot Springs, WY.

FOR FURTHER INFORMATION CONTACT: Wade Vagias, P.O. Box 168, Yellowstone National Park, WY 82190, telephone (307) 344-2035.

SUPPLEMENTARY INFORMATION: The Final SEIS supplements the 2011 Final Winter Use Plan/EIS. Four alternatives are considered in the SEIS. Alternative 1, the no-action alternative, would not permit public over-snow vehicle (OSV) use in Yellowstone but would allow for approved non-motorized use to continue. Alternative 1 has been identified as the environmentally preferable alternative. Alternative 2 would manage OSV use at the same levels as the interim regulations in place from the 2009/2010 winter season through the 2012/2013 winter season (318 best available technology (BAT) snowmobiles and 78 snowcoaches per day). Sylvan Pass would remain open. Alternative 3 would initially allow for the same level of use as alternative 2 (318 BAT snowmobiles and 78 snowcoaches per day), but would transition to snowcoaches only over a three-year period beginning in the 2017/2018 winter season. Upon complete transition, there would be 0 snowmobiles and up to 120 snowcoaches per day in the park, and Sylvan Pass would be closed.

Alternative 4 is the NPS preferred alternative. This alternative would manage OSV use by transportation events. A total of 110 transportation events would be allowed in the park each day. A transportation event would initially equal one snowcoach or one group of snowmobiles (average of 7 snowmobiles per group, averaged over the winter use season; groups could not exceed a maximum of 10 snowmobiles). Operators would decide whether to use their daily allocation of transportation events for snowmobiles or snowcoaches, but no more than 50 daily transportation events could come from snowmobiles. OSV use would continue to be 100 percent guided, with four transportation events per day (one per gate) of up to 5 snowmobiles each allocated for non-commercially guided access. BAT requirements for snowmobiles would remain the same as the BAT requirements in the 2011/2012 interim regulation until the 2017/2018 winter season, at which time additional sound and air emission requirements would be implemented. BAT requirements for snowcoaches would also be implemented beginning in the 2017/2018 season. If OSVs meet additional voluntary standards for air and sound emissions beyond those required for BAT, the group size of snowmobiles would be allowed to increase from an average of 7 to an average of 8 per transportation event, and snowcoaches would be allowed to increase from one to two snowcoaches per transportation event. Sylvan Pass would remain open.

More information regarding Yellowstone in the winter, including educational materials and a detailed history of winter use in Yellowstone, is available at http://www.nps.gov/yell/planvisit/winteruse/index.htm.

Dated: January 15, 2013.
John Wessels,
Regional Director, Intermountain Region, National Park Service.

[FR Doc. 2013-04124 Filed 2-21-13; 8:45 am]

BILLING CODE 4312-CB-P